DEPARTMENT OF TRANSPORTATION

Surface Transportation Board

[STB Finance Docket No. 34084]

New Hampshire Central Railroad, Inc.—Operation Exemption—Certain Lines of the State of New Hampshire

New Hampshire Central Railroad, Inc. (NHCR), a Class III rail carrier, has filed a verified notice of exemption under 49 CFR 1150.41 to operate approximately 36.1 miles of certain rail lines owned by the State of New Hampshire by and through the New Hampshire Department of Transportation (NHDOT).¹ The subject lines consist of railroad lines lying in Grafton and Coos Counties, NH, comprising a portion of railroad rights-of-way known as the Berlin Branch and Groveton Branch as follows: (a) From milepost 113.0 in Littleton, NH, to milepost 125.0 in Whitefield, NH; (b) from milepost 125.0 in Whitefield to milepost 130.9 in Jefferson (Waumbee Junction), NH; and (c) from milepost 130.9 in Jefferson (Waumbec Junction), to a point in Groveton (Northumberland), NH, at the Whistle Post located south of the West Street crossing, that point being the point of intersection with tracks of the St. Lawrence & Atlantic Railroad Company.

¹ The parties state that NHCR and the State of New Hampshire, by its Department of Transportation, entered into an operating agreement on December 1, 2000, providing for NHCR's operation of the subject line.

NHCR will replace New Hampshire and Vermont Railroad Company, which had operated under an agreement with NHDOT that was terminated effective December 31, 2000. See New Hampshire and Vermont Railroad Company Operation Exemption—Certain Lines of the State of New Hampshire, STB Finance Docket No. 33727 (STB served Apr. 16, 1999).

NHCR certifies that its annual revenues will not exceed those that would qualify it as a Class III rail carrier and that its annual freight revenues are not projected to exceed $5 million.

The transaction is scheduled to be consummated on August 31, 2001.

If the notice contains false or misleading information, the exemption is void ab initio. Petitions to revoke the exemption under 49 U.S.C. 10502(d) may be filed at any time. The filing of a petition to revoke will not automatically stay the transaction.

An original and 10 copies of all pleadings, referring to STB Finance Docket No. 34084, must be filed with the Surface Transportation Board, Office of the Secretary, Case Control Unit, 1925 K Street, NW., Washington, DC 20423-0001. In addition, one copy of each pleading must be served on Richard A. Currier, P. O. Box 248, Colebrook, NH 03576.

Board decisions and notices are available on our website at “WWW.STB.DOT.GOV.”

Decided: August 30, 2001.
By the Board, David M. Konschnik, Director, Office of Proceedings.
Vernon A. Williams,
Secretary.

[FR Doc. 01-22485 Filed 9-7-01; 8:45 am]

BILLING CODE 4915-00-P